DEPARTMENT OF HOUSING AND URBAN DEVELOPMENT

[Docket No. FR-5701-D-02]

Delegation of Procurement Authority and Chief Acquisition Officer Functions

AGENCY: Office of the Secretary, HUD.

ACTION: Notice of delegation of authority.

SUMMARY: In this notice, the Deputy Secretary of HUD, as the Chief Acquisition Officer, delegates procurement authority and certain Chief Acquisition Officer functions to the Senior Procurement Executive.

DATES: Effective Date: July 23, 2013.

FOR FURTHER INFORMATION CONTACT: Lisa D. Maguire, Assistant Chief Procurement Officer for Policy and Systems, Office of the Chief Procurement Officer, Department of Housing and Urban Development, 451 7th Street SW., Room 5276, Washington, DC 20410-3000; telephone number 202-708-0294 (this is not a toll-free number). Persons with hearing or speech impairments may access this number through TTY by calling the toll-free Federal Relay Service at 800-877-8339.

SUPPLEMENTARY INFORMATION: This notice delegates procurement authority and certain functions from the Chief Acquisition Officer to the Senior Procurement Executive. This notice also revises the delegation to the Senior Procurement Executive to include these functions. Accordingly, and in accordance with the authority set forth in the designation of the Deputy Secretary as the Chief Acquisition Officer, published elsewhere in today's Federal Register, the Deputy Secretary as Chief Acquisition Officer, delegates as follows:

Section A. Delegation of Authority and Functions to the Senior Procurement Executive

1. The Senior Procurement Executive is delegated authority to perform the following functions of the Chief Acquisition Officer, set forth in 41 U.S.C. 414:

a. Monitoring the performance of the Department's acquisition activity and acquisition programs, evaluating the performance of those programs on the basis of applicable performance measurements, and advising the Chief Acquisition Officer and the Secretary regarding the appropriate business strategy to achieve the mission of the Department;

b. Increasing the use of full and open competition in the acquisition of property and services by establishing policies, procedures, and practices that ensure that the Department receives a sufficient number of sealed bids or competitive proposals from responsible sources, to fulfill the Federal Government's requirements (including performance and delivery schedules) at the lowest cost or best value considering the nature of the property or service procured;

c. Increasing appropriate use of performance-based contracting and performance specifications;

d. Making acquisition decisions consistent with all applicable laws and establishing clear lines of authority, accountability, and responsibility for acquisition decisionmaking within the Department;

e. Managing the direction of acquisition policy for the Department, including development and implementation of the unique acquisition policies, regulations, and standards of the Department;

f. Developing and maintaining the Department's Acquisition Career Management Program to ensure that there is an adequate professional workforce, including working with the Department's Chief Human Capital Officer and principal program managers to develop and implement an annual Acquisition Human Capital Plan;

g. As part of the strategic planning and performance evaluation process required under section 306 of title 5 and sections 1105(a)(28), 1115, 1116, and 9703 of title 31:

(1) Assessing the requirements established for Department personnel regarding knowledge and skill in acquisition resources management and the adequacy of such requirements for facilitating the achievement of the performance goals established for acquisition management;

(2) In order to rectify any deficiency in meeting such requirements, developing strategies and specific plans for hiring, training, and professional development; and

(3) Reporting to the Chief Acquisition Officer or, as directed by the Chief Acquisition Officer, to the Secretary on the progress made in improving acquisition management capability;

h. Promoting a high-performing, ethical, and dynamic supplier base by:

(1) Ensuring the timely completion of complete and accurate contractor past performance assessments; and

(2) Ensuring the submission and use of contractor business integrity data; and

i. Prioritizing efforts that help the Department buy smarter, specifically;

(1) Working with the Chief Financial Officer (CFO) and Chief Information Officer (CIO) to increase the Department's use of governmentwide and agencywide strategic sourcing vehicles to save money and reduce duplication;

(2) Identifying goals for increasing competition and reducing the use of high-risk contracts, and tracking agency progress toward these goals;

(3) Supporting the agency's CIO in ongoing information technology (IT) portfolio investment reviews and working with the CIO to determine how best to support high risk IT acquisition, such as through the development of a specialized IT acquisition cadre; and

(4) Working with the CFO to target administrative savings opportunities.

2. The Chief Acquisition Officer retains all functions not delegated to the Senior Procurement Executive in section A of this notice.

3. The Senior Procurement Executive is also delegated the authority to exercise all duties, responsibilities, and powers of the Secretary with respect to departmental procurement activities. The authority delegated to the Senior Procurement Executive includes the following duties, responsibilities, and powers:

a. Authority to enter into, administer, and/or terminate all procurement contracts (as well as interagency agreements entered into under the authority of the Economy Act) for property and services required by the Department, and make related determinations and findings;

b. Authority to order the sanctions of debarment, suspension, and/or limited denial of participation pursuant to 48 CFR 2409.7001 and 2 CFR part 2424;

c. Responsibility for procurement program development, including:

(1) Implementation of procurement initiatives, best practices, and reforms; and

(2) In coordination with the Office of Federal Procurement Policy, determination of specific areas where governmentwide performance standards should be applied and development of relevant Departmentwide procurement policies, regulations, and standards.

4. The Senior Procurement Executive is authorized to issue rules and regulations as may be necessary to carry out the authority delegated under this section A.

Section B. Authorities that the Senior Procurement Executive May Redelegate

The Senior Procurement Executive may redelegate, by use of contracting officer Certificates of Appointment that clearly define the limits of the delegated authority, the following authority:

1. The procurement authority in section A.3. to qualified personnel within the Office of the Chief Procurement Officer.

2. Limited purchasing authority to other qualified departmental employees, as follows:

a. Simplified acquisitions (FAR Part 13), including the Government Purchase Card purchases; and

b. Issuance of delivery and task orders under contracts established by other Federal Government sources in accordance with FAR Part 8, or under prepriced indefinite-delivery contracts established by the Department.

Section C. No Authority to Redelegate

The authorities delegated in section B that may be redelegated from the Senior Procurement Executive do not include the authority to further redelegate.

Section D. Authority Superseded

This delegation of authority supersedes all previous delegations concerning the Chief Acquisition Officer and Senior Procurement Executive and revokes and supersedes all previous delegations of authority to the Senior Procurement Executive. Federal Register notices published on August 30, 2011, entitled “Designation by the Chief Procurement Officer of Contracting Officers” (76 FR 53936) and “Order of Succession for the Office of the Chief Procurement Officer” (76 FR 53938) remain in full force and effect.

Authority: 41 U.S.C. 414; section 7(d) of the Department of Housing and Urban Development Act (42 U.S.C. 3535(d)).

Dated: July 23, 2013.
Maurice A. Jones,
Deputy Secretary.

[FR Doc. 2013-18294 Filed 7-29-13; 8:45 am]

BILLING CODE 4210-67-P